DEPARTMENT OF DEFENSE

Department of the Navy

[Docket ID: USN-2009-0013]

Privacy Act of 1974; System of Records

AGENCY: U.S. Marine Corps, DoD.

ACTION: Notice To Delete System of Records.

SUMMARY: The U.S. Marine Corps is deleting a system of records in its existing inventory of record systems subject to the Privacy Act of 1974, (5 U.S.C. 552a), as amended.

DATES: This proposed action will be effective without further notice on May 18, 2009 unless comments are received which result in a contrary determination.

ADDRESSES: Send comments to Headquarters, U.S. Marine Corps, FOIA/PA Section (CMC-ARSF), 2 Navy Annex, Room 3134, Washington, DC 20380-1775.

FOR FURTHER INFORMATION CONTACT: Ms. Teresa D. Ross at (703) 614-4008.

SUPPLEMENTARY INFORMATION: The U.S. Marine Corps systems of records notices subject to the Privacy Act of 1974, (5 U.S.C. 552a), as amended, have been published in the Federal Register and are available from the address above.

The U.S. Marine Corps proposes to delete a system of records notice from its inventory of record systems subject to the Privacy Act of 1974 (5 U.S.C. 552a), as amended. The proposed deletion is not within the purview of subsection (r) of the Privacy Act of 1974 (5 U.S.C. 552a), as amended, which requires the submission of new or altered systems reports.

Dated: April 14, 2009.
Morgan E. Frazier,
Alternate OSD Federal Register Liaison Officer, Department of Defense.

Deletion:

MMN00004

System name:

Marine Corps Club Records (February 22, 1993, 58 FR 10630).

Reason:

The United States Marine Corps no longer uses this system.

Therefore, this Privacy Act System of Records Notice should be deleted.

[FR Doc. E9-8838 Filed 4-16-09; 8:45 am]

BILLING CODE 5001-06-P